ENVIRONMENTAL PROTECTION AGENCY

[FRL-7994-8]

State Innovation Grant Program, Preliminary Notice on the Development of a Solicitation for Proposals for 2006 Awards

AGENCY: Environmental Protection Agency (EPA).

ACTION: Notice.

SUMMARY: The U.S. Environmental Protection Agency, Office of Policy, Economics and Innovation (OPEI) is giving preliminary notice of its intention to solicit proposals for a 2006 grant program to support innovation by state environmental regulatory agencies—the “State Innovation Grant Program.” In addition, EPA is asking each State Environmental Regulatory Agency to designate a point of contact at the management level (in addition to the Commissioner or Cabinet Secretary level) who will be the point of contact for further communication about the upcoming solicitation. If your point of contact from previous State Innovation Grant solicitations is to be your contact for this year's competition, there is no need to send that information again, as all previously designated points of contact will remain on our notification list for this year's competition. EPA anticipates publication of a Federal Register notice to announce the availability of the next solicitation approximately three weeks after publication of this announcement.

DATES: State Environmental Regulatory Agencies will have 14 days from the date of this pre-announcement notice in the Federal Register publication until November 25, 2005 to respond with point of contact information for the person within the State Environmental Regulatory Agency (in addition to Commissioner or Cabinet Secretaries) who will be designated to receive future notices about the State Innovation Grants. We will automatically transmit notice of availability of the solicitation to people in State agencies identified for previous solicitations.

ADDRESSES: Information should be sent to: State Innovation Grant Program; Office of Policy, Economics and Innovation; U.S. Environmental Protection Agency (1807T); 1200 Pennsylvania Ave., NW., Washington, DC 20460. Responses may also be sent by fax to (202) 566-2220, addressed to the “State Innovation Grant Program,” or by e-mail to: Innovation_State_Grants@EPA.gov. We encourage e-mail responses. If you have questions about responding to this notice, please contact EPA at this e-mail address or fax number, or you may call Sherri Walker at 202-566-2186. For point of contact information, please provide: name, title, department and agency, street or Post Office address, city, State, zip code, telephone, fax, and e-mail address. EPA will acknowledge all responses it receives to this notice.

SUPPLEMENTARY INFORMATION: Background: In April 2002, EPA issued its plan for future innovation efforts, published as Innovating for Better Environmental Results: A Strategy to Guide the Next Generation of Innovation at EPA (EPA 100-R-02-002; http://www.epa.gov/innovation/strategy/). The Agency's Innovation Strategy presents a framework for environmental innovation consisting of four major elements:

(1) Strengthen EPA's innovation partnerships with States;

(2) Focus on priority environmental issues:

(3) Diversify environmental protection tools and approaches:

(4) Foster a more “innovation-friendly” organizational culture and systems.

This assistance program strengthens EPA's partnership with the States by supporting innovation compatible with the Innovation Strategy. EPA would like to help States build on previous experience and undertake strategic innovation projects that promote larger-scale models for “next generation” environmental protection and promise better environmental results. EPA is interested in funding projects that go beyond a single facility experiment to promote change that is “systems-oriented” and provides better results from a program, process, or sector-wide innovation. EPA is particularly interested in innovation that promotes integrated (cross-media) environmental management with high potential for transfer to other States.

In 2002, EPA initiated the State Innovation Grant Program with a competition that asked for State project proposals that would create innovation in environmental permitting programs related to one of the Innovation Strategy's four priority environmental issues: Reducing greenhouse gases, reducing smog, improving water quality, and ensuring the long-term integrity of the nations's water infrastructure. In addition, the solicitation encouraged projects that test incentives that motivate “beyond-compliance” environmental performance, or move whole sectors toward improved environmental performance through models such as Environmental Results Programs, Environmental Management Systems and the National Environmental Performance Track Program. Fifteen total awards to States have been made from the three prior competitions. Awards from the 2002 solicitation competition totaled $618,000. Awards from the 2003-2004 competition were approximately $1.6 million dollars. EPA is currently completing awards to seven States selected in the 2005 competition. Of those projects that have been awarded, including those with pending awards: 11 are for development of Environmental Results Programs, 7 relate to Environmental Management Systems and permitting, 2 are to enhance Performance-Based Environmental Leadership programs, 2 are for Watershed-based permitting, and 1 is Information Technology. For more information on last year's solicitation, the proposals received, and the award decisions, please see the Web site at: http://www.epa.gov/innovation/stategrants.

Proposed General Topic Areas for Solicitation: Because the Agency has limited funding for the Program, NCEI wants to maximize the strategic impact of these projects. Our intention, therefore is to retain “innovation in permitting” as the general subject area of the upcoming solicitation with special attention toward the three specific topics under that theme from last year: (1) Projects that support the development of state Environmental Results Programs (ERP); (2) projects which explore the relationship between Environmental Management Systems (EMS) and permitting (see EPA's Strategy for Determining the Role of EMS in Regulatory Programs at http://www.epa.gov/ems or http://www.epa.gov/ems/docs/EMS_and_the_Reg_Structure_41204F.pdf); (3) projects that support state performance-based programs or state support for implementation of Performance Track particularly with regard to development and implementation of incentives. EPA's focus on a small number of topics within this general subject area effectively concentrates the limited resources available for greater strategic impact. Project selections and awards will be subject to funding availability for each topic area. In addition, EPA may contemplate a very limited number of projects otherwise related to the theme of permitting, in particular as they may address EPA Regional and State environmental permitting priorities.

As in previous rounds of this competition, the 2006 State Innovation Grant Program competition will seek to strengthen EPA's innovation partnership with States by providing a source of funding to facilitate State efforts to test new models for “next generation” environmental protection that will provide better environmental results, consistent with the goals of EPA's Innovation Strategy.

This grant program emphasizes interest in funding projects that go beyond a single facility experiment to promote change that is “systems-oriented” and provides better results from a program, process, or sector-wide innovation. Another key goal for this grant program is practical transferability of innovation that enables or supports other States to motivate their designated or geographical priority facility(ies) of choice to provide “beyond compliance” environmental performance, or to move whole sectors toward improved environmental performance.

Note: These grants will not be applied to the development or demonstration of new environmental technologies, nor will NCEI fund projects that propose development or upgrading of information technology systems for anything other than a very minor component of the project. Projects will be much less likely to be funded through the State Innovation Grant Program if agency resources are already available through another agency program.

Competition Limited to the State Environmental Regulatory Agency: The competition will be limited to the principal Environmental Regulatory Agency within each State, although these agencies are encouraged to partner with other agencies within the State that have environmental mandates (e.g., natural resources management, transportation, public health, energy). EPA will accept only one proposal from an individual State and it must be submitted by the principal Environmental Regulatory Agency from that State. States are also encouraged to partner with other States and Tribes to address cross-boundary issues, and to create networks for peer-mentoring. A multi-state or State-Tribal proposal will be accepted in addition to an individual State proposal, but a State may appear in no more than one multi-State or State-Tribal proposal in addition to its individual proposal. EPA regrets that because of the limitations in available funding it is not yet able to open this competition to Native American Tribal environmental agencies but we strongly encourage Tribal agencies to join with adjacent States in project proposals.

Request for Designation of a Primary Point of Contact: EPA asks that each State Environmental Regulatory Agency designate as a primary point-of-contact, a manager who we will add to the EPA notification list for further announcements about the State Innovation Grant Program. If your point of contact from previous State Innovation Grant solicitations is to be your contact for this year's competition, there is no need to send that information again, as all previously designated points of contact will remain on our notification list for this year's competition. We are asking that this name be submitted with the approval of the highest levels of management within an Agency (Secretary, Commissioner, or their deputies) within 14 days after publication of this notice in the Federal Register November 25, 2005. Please submit this information to EPA by mail, fax or e-mail in the following manner.

By mail to: State Innovation Grant Program, Office of Policy, Economics and Innovation, U.S. Environmental Protection Agency (1807T), 1200 Pennsylvania Ave., NW., Washington, DC 20460.

By fax to: “State Innovation Grant Program”, 202-566-2220.

By e-mail to: Innovation_State_Grants@EPA.gov.

We encourage e-mail responses. If you have questions about responding to this notice, please contact EPA at this e-mail address or fax number, or you may call Sherri Walker at 202-566-2186. For point of contact information, please provide: name, title, department and agency, street or Post Office address, city, State, zip code, telephone, fax, and e-mail address. EPA will acknowledge all responses it receives to this notice.

Opportunity for Dialogue: Between now and the initiation of the competition with the release of the solicitation, States are encouraged to discuss potential projects with their EPA Regional contact to ascertain whether the scope of a potential project is suitable for funding under this program. Unlike last year, we will not be hosting a series of pre-competition workshops for all States and Regions. Questions that come to us during this period, as well as our responses, along with helpful resource materials will be posted on the State Innovation Grant Web site at http://www.epa.gov/innovation/stategrants. The Regional contacts and the EPA HQ National Center for Environmental Innovation are as follows:

Regional Contacts

George Frantz

U.S. EPA Region I

1 Congress Street, Suite 1100

Boston, MA 02114-2023

(617) 918-1883

frantz.george@epa.gov

States: ME, NH, VT, MA, CT, RI

Grace Smith

U.S. EPA Region 2

290 Broadway, 26th Floor

New York, NY 10007-1866

(212) 637-3589

smith.grace@epa.gov

States & Territories: NY, NJ, PR, VI

Marie Holman

U.S. EPA Region 3

1650 Arch Street (3EA40)

Philadelphia, PA 19103

(215) 814-5463

holman.marie@epa.gov

States: DE, DC, MD, PA, VA, WV

Melissa Heath

U.S. EPA Region 4

61 Forsyth Street, SW

Atlanta, GA 30303

(404) 562-8381

heath.melissa@epa.gov

States: AL, FL, GA, KY, MS, NC, SC, TN

Marilou Martin

U.S. EPA Region 5, B-19J

77 West Jackson Blvd.

Chicago, IL 60604-3507

(312) 353-9660

martin.marilou@epa.gov

States: MN, WI, MI, IL, IN, OH

David Bond

U.S. EPA Region 6

Fountain Place, Suite 1200

1445 Ross Avenue

Dallas, TX 75202-2733

(214) 665-6431

bond.david@epa.gov

States: AR, LA, NM, OK, TX

Chrissy Wolfersberger

U.S. EPA Region 7

901 N. 5th Street

Kansas City, KS 66101

(913) 551-7864

wolfersberger.chris@epa.gov

States: KS, MO, NE, IA

Whitney Trulove-Cranor

U.S. EPA Region 8 (8P-SA)

999 18th Street, Suite 300

Denver, CO 80202-2466

(303) 312-6099

trulove-cranor.whitney@epa.gov

States: CO, MT, ND, SD, UT, WY

Loretta Barsamian

U.S. EPA Region 9

75 Hawthorne Street (SPE-1)

San Francisco, CA 94105

(415) 947-4268

barsamian.loretta@epa.gov

States & Territories: CA, NV, AZ, HI, AS, GU

Bill Glasser

U.S. EPA Region 10

1200 Sixth Avenue (ENF-T)

Seattle, WA 09101

206-553-7215

glasser.william@epa.gov

States: AK, ID, OR, WA

Headquarters Office:

Sherri Walker

State Innovation Grants Program

National Center for Environmental Innovation

Office of the Administrator

U.S. EPA (MC 1807T)

1200 Pennsylvania Ave., NW.

Washington, DC 20460

(202) 566-2186

(202) 566-2220 fax

Innovation_State_Grants@epa.gov.

For courier delivery only:

Sherri Walker

U.S. EPA

EPA West Building, room 4214D 1301 Constitution Ave., NW.

Washington, DC 20005

Dated: November 2, 2005.
Elizabeth Shaw,
Director, Office of Environmental Policy Innovation.

[FR Doc. 05-22379 Filed 11-9-05; 8:45 am]

BILLING CODE 6560-50-P